DEPARTMENT OF THE INTERIOR

Bureau of Land Management

[AK-962-1410-00-P]

Notice for Publication, AA-8096-03; Alaska Native Claims Selection

In accordance with Departmental regulations 43 CFR 2650.7(d), notice is hereby given that decisions to issue conveyance (DIC) to Chugach Alaska Corporation, notices of which were published in the Federal Register on May 4, 1999, and June 24, 1999, are modified to replace the easements to be reserved, and add a right-of-way interest in Federal Aid Secondary Route No. 851 (FAS 851) as to T. 8 S., R. 3 E., Copper River Meridian, Alaska.

A notice of the modified decision will be published once a week, for four (4) consecutive weeks, in the Anchorage Daily News. Copies of the modified decision may be obtained by contacting the Bureau of Land Management, Alaska State Office, 222 West Seventh Avenue, #13, Anchorage, Alaska 99513-7599. ((907) 271-5960).

Any party claiming a property interest which is adversely affected by the decision, shall have until August 25, 2000 to file an appeal on the issue in the modified DIC. However, parties receiving service by certified mail shall have 30 days from the date of receipt to file an appeal. Appeals must be filed in the Bureau of Land Management at the address identified above, where the requirements for filing an appeal may be obtained. Parties who do not file an appeal in accordance with the requirements in 43 CFR part 4, subpart E, shall be deemed to have waived their rights.

Except as modified, the decisions, notices of which were given May 4, 1999 and June 24, 1999, are final.

Jerri Sansone,
Land Law Examiner, Branch of 962 Adjudication.

[FR Doc. 00-18859 Filed 7-25-00; 8:45 am]

BILLING CODE 4310-$$-P